ENVIRONMENTAL PROTECTION AGENCY

[FRL-7582-1; Docket ID Numbers: OECA-2003-0138 to OECA-2003-0146]

Agency Information Collection Activities: Request for Comments on Nine Proposed Information Collection Requests (ICRs)

AGENCY: Environmental Protection Agency (EPA).

ACTION: Notice.

SUMMARY: In compliance with the Paperwork Reduction Act (44 U.S.C. 3501 et seq.), this document announces that EPA is planning to submit the following nine existing, approved, continuing Information Collection Requests (ICRs) to the Office of Management and Budget (OMB) for the purpose of renewing the ICRs. Before submitting the ICRs to OMB for review and approval, EPA is soliciting comments on specific aspects of the information collections as described at the beginning of SUPPLEMENTARY INFORMATION.

DATES: Comments must be submitted on or before January 2, 2004.

ADDRESSES: Comments may be submitted electronically, by mail, or through hand delivery/courier service. Follow the detailed instructions as provided under SUPPLEMENTARY INFORMATION, Section I.B.

FOR FURTHER INFORMATION CONTACT: The contact individual for each ICR is listed under SUPPLEMENTARY INFORMATION, Section II.C.

SUPPLEMENTARY INFORMATION:

I. General Information

A. How Can I Get Copies of the ICR Supporting Statement and Other Related Information?

1. Docket. EPA has established official public dockets for these ICRs as follows:

(1) NESHAP for Aerospace Manufacturing and Rework Facilities (40 CFR Part 63, Subpart GG), Docket ID Number OECA-2003-0146.

(2) Standards of Performance for Air Emission Standards for Tanks, Surface Impoundments and Containers (40 CFR Part 264, Subpart CC, and 40 CFR Part 265, Subpart CC), Docket ID Number OECA 2003-0142.

(3) NSPS for Stationary Gas Turbines (40 CFR Part 60, Subpart GG), Docket ID Number OECA 2003-0143.

(4) NESHAP for Benzene Emissions from Coke By-Product Recovery Plants (40 CFR Part 61, Subpart L), Docket ID Number OECA 2003-0144;

(5) NSPS for VOC Emissions from Petroleum Refinery Wastewater Systems (40 CFR Part 60, Subpart QQQ, Docket ID Number OECA 2003-0145.

(6) NESHAP for Beryllium (40 CFR Part 61, Subpart C), Docket ID Number OECA-2003-0138.

(7) NESHAP for Primary Aluminum Reduction Plants (40 CFR Part 63, Subpart LL), Docket ID Number OECA-2003-0139.

(8) NESHAP for Epoxy Resin and Non-Nylon Polyamide Production (40 CFR Part 63, Subpart W), Docket ID Number OECA-2003-0140.

(9) NSPS for Sewage Sludge Treatment Plants (40 CFR Part 60, Subpart O), Docket ID Number OECA-2003-0141.

The official public docket for each ICR consists of the documents specifically referenced in the ICR, any public comments received, and other information related to each ICR. Although a part of the official docket, the public docket does not include Confidential Business Information (CBI) or other information whose disclosure is restricted by statute. The official public docket for each ICR is the collection of materials that is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is (202) 566-1514.

2. Electronic Access. You may access this document electronically through the EPA Internet under the “Federal Register” listings at http://www.epa.gov/fedrgstr/. You may use EPA Dockets at http://www.epa.gov/edocket/ to submit or view public comments, access the index listing of the contents of the official public docket, and to access those documents in the public docket that are available electronically. After entering the system, select “search,” then key in the docket identification number.

Certain types of information will not be placed in the EPA Dockets. Information claimed as CBI, and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Section I.A.1. EPA intends to work toward providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket, visit EPA Dockets online or see 67 FR 38102, May 31, 2002.

B. How and to Whom Do I Submit Comments?

You may submit comments electronically, by mail, or through hand delivery/courier service. To ensure proper receipt by EPA, identify the appropriate docket identification number in the subject line on the first page of your comment. Please ensure that your comments are submitted within the specified comment period. Comments received after the close of the comment period will be marked “late.” EPA is not required to consider late comments in formulating a final decision. If you wish to submit CBI or information that is otherwise protected by statute, please follow the instructions in Section I.C. Do not use EPA Dockets or e-mail to submit CBI or information protected by statute.

1. Electronically. If you submit an electronic comment as prescribed below, EPA recommends that you include your name, mailing address, and an e-mail address or other contact information in the body of your comment. Include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” After entering the system, select “search,” and then key in Docket ID Number. The system is an “anonymous access” system, which means EPA will not know your identity, e-mail address, or other contact information unless you provide it in the body of your comment.

ii. E-mail. Comments may be sent by electronic mail (e-mail) to docket.oeca@epa.gov. Provide the Docket ID Number when submitting your comments. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD-ROM. You may submit comments on a disk or CD-ROM that you mail to the mailing address identified in Section I.A.1. These electronic submissions will be accepted in WordPerfect or ASCII file format. Avoid the use of special characters and any form of encryption.

2. By Mail. Send your comments to the EPA Docket Center using the address provided in Section I.A.1.; Attention: Docket ID Number (provide number).

3. By Hand Delivery or Courier Service. Deliver your comments to address provided in Section I.A.1; Attention: Docket ID Number (provide number). Such deliveries are only accepted during the Docket's normal hours of operation as identified in Section I.A.1.

C. How Should I Submit CBI to the Agency?

Do not submit information that you consider to be CBI electronically through EPA's electronic public docket or by e-mail. Send or deliver information identified as CBI only to the contact individuals listed in Section II.C.; Attention: Docket ID Number (provide number). You may claim information that you submit to EPA as CBI by marking any part or all of that information as CBI. If you submit CBI on disk or CD ROM, mark the outside of the disk or CD ROM as CBI, and then identify within the disk or CD ROM the specific information that is CBI. Information so marked will not be disclosed except in accordance with procedures set forth in 40 CFR Part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person identified under the section titled FOR FURTHER INFORMATION CONTACT.

D. What Should I Consider as I Prepare My Comments for EPA?

You may find the following suggestions helpful for preparing your comments:

(1) Explain your views as clearly as possible.

(2) Describe any assumptions that you used.

(3) Provide any technical information and/or data you used that support your views.

(4) If you estimate potential burden or costs, explain how you arrived at your estimate.

(5) Provide specific examples to illustrate your concerns.

(6) Offer alternatives.

(7) Make sure to submit your comments by the comment period deadline identified.

(8) To ensure proper receipt by EPA, identify the appropriate docket identification number in the subject line on the first page of your response. It would also be helpful if you provided the name, date, and Federal Register citation related to your comments.

E. In What Information Is EPA Particularly Interested?

Pursuant to section 3506(c)(2)(A) of the PRA, EPA specifically solicits comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

II. ICRs To Be Renewed

A. For All ICRs

An Agency may not conduct or sponsor, and a person is not required to respond to, a collection information unless it displays a currently valid OMB control number. The OMB control numbers for the Agency's information collections are displayed at 40 CFR Part 9.

These information collection requirements are mandatory. The records required by New Source Performance Standards (NSPS) must be retained by the owner or operator for at least two years, the records required by the National Emission Standards for Hazardous Air Pollutants (NESHAP) must be retained by the owner or operator for at least five years, and the records required by the air emission standards at 40 CFR Part 264, Subpart CC, and 40 CFR Part 265, Subpart CC, must be retained by the owner for three years. In general, the required information consists of emissions data and other information deemed not to be private.

In the absence of such information collection requirements, enforcement personnel would be unable to determine whether the standards are being met on a continuous basis, as required by the Clean Air Act.

The Agency computed the burden for each of the recordkeeping and reporting requirements applicable to the industry for the currently approved ICRs listed in this notice. Where applicable, the Agency identified specific tasks and made assumptions, while being consistent with the concept of the Paperwork Reduction Act.

B. List of ICRs To Be Submitted

In compliance with the Paperwork Reduction Act (44 U.S.C. 3501 et seq.), this notice announces that EPA is planning to submit the following nine existing, approved, continuing ICRs to the Office of Management and Budget (OMB):

(1) NESHAP for Aerospace Manufacturing and Rework Facilities (40 CFR Part 63, Subpart GG); Docket ID Number OECA-2003-0146; EPA Preliminary ICR Number 1687.06; OMB Control Number 2060-0314; expiration date May 31, 2004.

(2) Standards of Performance for Air Emission Standards for Tanks, Surface Impoundments and Containers (40 CFR Part 264, Subpart CC, and 40 CFR Part 265, Subpart CC); Docket ID Number OECA 2003-0142; EPA Preliminary ICR Number 1593.06; OMB Control Number 2060-0318; expiration date July 31, 2004.

(3) NSPS Standard of Performance for Stationary Gas Turbines (40 CFR Part 60, Subpart GG); Docket ID Number OECA 2003-0143; EPA Preliminary ICR Number 1071.08; OMB Control Number 2060-0028; expiration date July 31, 2004.

(4) NESHAP for Benzene Emissions from Coke By-Product Recovery Plants (40 CFR Part 61, Subpart L); Docket ID Number OECA 2003-0144; EPA Preliminary ICR Number 1080.11; OMB Control Number 2060-0185; expiration date August 31, 2004.

(5) NSPS for VOC Emissions from Petroleum Refinery Wastewater Systems (40 CFR Part 60, Subpart QQQ); Docket ID Number OECA 2003-0145; EPA Preliminary ICR Number 1136.07; OMB Control Number 2060-0172; expiration date September 30, 2004.

(6) NESHAP for Beryllium (40 CFR Part 61, Subpart C), Docket ID Number OECA-2003-0138; EPA Preliminary ICR Number 0193.08; OMB Control Number 2060-0092; expiration date September 30, 2004.

(7) NESHAP for Primary Aluminum Reduction Plants (40 CFR Part 63, Subpart LL), Docket ID Number OECA-2003-0139; EPA Preliminary ICR Number 1767.04; OMB Control Number 2060-0360; expiration date September 30, 2004.

(8) NESHAP for Epoxy Resin and Non-Nylon Polyamide Production (40 CFR Part 63, Subpart W), Docket ID Number OECA 2003-0140; EPA Preliminary ICR Number 1681.05; OMB Control Number 2060-0290; expiration date September 30, 2004.

(9) NSPS for Sewage Sludge Treatment Plants (40 CFR Part 60, Subpart O), Docket ID Number OECA-2003-0141; EPA Preliminary ICR Number 1063.09; OMB Control Number 2060-0035; expiration date September 30, 2004.

C. Contact Individuals for ICRs

(1) NESHAP for Aerospace Manufacturing and Rework Facilities (40 CFR Part 63, Subpart GG); Leonard Lazarus of the Office of Compliance at (202) 564-6369 or via E-mail at lazarus.leonard@epa.gov; EPA ICR Number 1687.06; OMB Control Number 2060-0314; expiration date May 31, 2004.

(2) Standards of Performance for Air Emission Standards for Tanks, Surface Impoundments and Containers (40 CFR Part 264, Subpart CC, and 40 CFR Part 265, Subpart CC); Dan Chadwick of the Office of Compliance at (202) 564-7054, or via E-mail at chadwick.dan@epa.gov; EPA Preliminary ICR Number 1593.06; OMB Control Number 2060-0318; expiration date July 31, 2004.

(3) NSPS for Stationary Gas Turbines (40 CFR Part 60, Subpart GG); Rafael Sanchez of the Office of Compliance at (202) 564-7028, or via E-mail at sanchez.rafael@epa.gov; EPA Preliminary ICR Number 1071.08; OMB Control Number 2060-0028; expiration date July 31, 2004.

(4) NESHAP for Benzene Emissions from Coke By-Product Recovery Plants (40 CFR Part 61, Subpart L); Rafael Sanchez of the Office of Compliance at (202) 564-7028, or via E-mail at sanchez.rafael@epa.gov; EPA Preliminary ICR Number 1080.11; OMB Control Number 2060-0185; expiration date August 31, 2004.

(5) NSPS for VOC Emissions from Petroleum Refinery Wastewater Systems (40 CFR Part 60, Subpart QQQ); Dan Chadwick of the Office of Compliance at (202) 564-7054, or via E-mail at chadwick.dan@epa.gov; EPA Preliminary ICR Number 1136.07; OMB Control Number 2060-0172; expiration date September 30, 2004.

(6) NESHAP for Beryllium (40 CFR Part 61, Subpart C); Learia Williams of the Office of Compliance at (202) 564-4113 or via E-mail at williams.learia@epa.gov; EPA ICR Number 0193.08; OMB Control Number 2060-0092; expiration date September 30, 2004.

(7) NESHAP for Primary Aluminum Reduction Plants (40 CFR Part 63, Subpart LL); Learia Williams of the Office of Compliance at (202) 564-4113 or via E-mail at williams.learia@epa.gov; EPA ICR Number 1767.04; OMB Control Number 2060-0360; expiration date September 30, 2004.

(8) NESHAP for Epoxy Resin and Non-Nylon Polyamide Production (40 CFR Part 63, Subpart W); Learia Williams of the Office of Compliance at (202) 564-4113 or via E-mail at williams.learia@epa.gov; EPA ICR Number 1681.05; OMB Control Number 2060-0290; expiration date September 30, 2004.

(9) NSPS for Sewage Sludge Treatment Plants (40 CFR Part 60, Subpart O); Learia Williams of the Office of Compliance at (202) 564-4113 or via E-mail at williams.learia@epa.gov; EPA ICR Number 1063.09; OMB Control Number 2060-0035; expiration date September 30, 2004.

D. Information for Individual ICRs

(1) NESHAP for Aerospace Manufacturing and Rework Facilities (40 CFR Part 63, Subpart GG), EPA Preliminary ICR Number 1687.06, OMB Control Number 2060-0314, expiration date May 31, 2004.

Affected Entities: Entities potentially affected by this action are owners and operators of aerospace manufacturing or rework facilities.

Abstract: The respondents are owners or operators of aerospace manufacturing and rework facilities. Operations covered include: Cleaning, primer and top coat application, depainting, chemical milling maskant application, handling and storage of waste. 40 CFR Part 63 Subpart GG, was promulgated on September 1, 1996.

Affected facilities must comply with the recordkeeping and reporting requirements at 40 CFR Part 63, General Provisions, including: Initial notifications; performance tests; and startup, shutdown, and malfunction reports. In addition, semiannual reports are required for cleaning operations, primer and topcoat application operations, depainting operations, and chemical milling maskant application operations primarily involve periods of noncompliance. Annual reports are also required for primer and topcoat application operations and depainting operations, and for operations occurring outside the specified limits.

Burden Statement: In the previously approved ICR, the estimated number of respondents for this information collection was 2,869 with 16,402 responses per year. The annual industry reporting and recordkeeping burden for this collection of information was 3,737,400 hours. On the average, each respondent reported six times per year and 228 hours were spent preparing each response. Total estimated annual reporting and recordkeeping cost burden was $561,000 of which the annualized capital/startup costs were $240,000, and the operation and maintenance costs were $321,000.

(2) Standards of Performance for Air Emission Standards for Tanks, Surface Impoundments and Containers (40 CFR Part 264, Subpart CC, and 40 CFR Part 265, Subpart CC); EPA Preliminary ICR Number 1593.06; OMB Control Number 2060-0318; expiration date July 31, 2004.

Affected Entities: Entities potentially affected by this action are owners and operators of facilities that treat, store or dispose of hazardous waste in tanks, surface impoundments and containers.

Abstract: The Air Emission Standards for Tanks, Surface Impoundments and Containers at 40 CFR Part 264, Subpart CC and 40 CFR Part 265, Subpart CC were proposed on July 22, 1991 (56 FR 33491), and promulgated on December 6, 1994 (59 FR 62896). Amendments to this Subpart were added on November 25, 1996 (61 FR 59931).

Records must be kept of tank, surface impoundment and container inspections and an annual report is required. The information collection is needed by the Agency to determine: (a) Whether a hazardous waste contains sufficiently low concentrations of volatile organics to allow the waste to be managed in a tank, surface impoundment, or container without the use of emission controls, and (b) for units requiring emission controls, whether the controls are being properly operated and maintained.

The data collected by the affected facility is retained at the facility for a minimum of three years.

Burden Statement: In the previously approved ICR, the estimated number of respondents for this information collection was 6,318 with 6,318 responses per year. The annual industry reporting and recordkeeping burden for this collection of information was 672,640 hours. Each respondent reported once per year and 106 hours were spent preparing each response. The annual reporting and recordkeeping cost burden was $1,460,000 for capital/startup expenses. There were no annual operation and maintenance expenses.

(3) NSPS Standard of Performance for Stationary Gas Turbines (40 CFR Part 60, Subpart GG); EPA Preliminary ICR Number 1071.08; OMB Control Number 2060-0028; expiration date July 31, 2004.

Affected Entities: Entities potentially affected by this action are owners and operators of stationary gas turbines with heat input at peak load equal or greater than 10.7 gigajoules per hour.

Abstract: The NSPS for Stationary Gas Turbines (40 CFR Part 60, Subpart GG) was promulgated on September 10, 1979. These standards require initial notification, performance tests, and periodic reports. In addition, owners or operators are required to maintain records of the occurrence and duration of any startup, shutdown, or malfunction in the operation of an affected facility, or any period during which the monitoring system is inoperative. Owners and operators of stationary gas turbines subject to the standard must submit a one-time-only notification of construction/reconstruction, anticipated and actual startup date, initial performance test date, physical or operational changes, and demonstration of a continuous monitoring system. Owners and operators also must provide a report on initial performance test results, monitoring results and excess emissions. Records must be maintained of startups, shutdowns, malfunctions, periods when the continuous monitoring system is inoperative, sulfur and nitrogen content of the fuel, fuel-to-water ratio, and rate of fuel consumption.

Burden Statement: In the previously approved ICR, the estimated number of respondents for this information collection was 775 with 1,650 responses per year. The annual industry reporting and recordkeeping burden for this collection of information was 93,439 hours. On the average, each respondent reported two times per year and 57 hours were spent preparing each response. The responses were prepared semiannually. There were no capital/startup costs or operation and maintenance costs associated with continuous emission monitoring in the previous ICR.

(4) NESHAP for Benzene Emissions from Coke By-Product Recovery Plants (40 CFR Part 61, Subpart L); EPA Preliminary ICR Number 1080.11; OMB Control Number 2060-0185; expiration date August 31, 2004.

Affected Entities: Entities potentially affected by this action are owners or operators of coke by-product recovery plants.

Abstract: The NESHAP Standard for Benzene Emissions from Coke By-Product Recovery Plants (40 CFR Part 61, Subpart L) was promulgated September 14, 1989, and revised on September 19, 1991, to allow the use of carbon absorbers and vapor incinerators as alternative means of complying with the standards for process vessels, storage tanks and tar-intercepting sumps. The use of carbon absorbers and vapor incinerators instead of gas blanketing, the control technology on which the original standards were based, is now optional.

The General Provisions at 40 CFR Part 61 are applicable to storage vessels and include notification of construction or reconstruction, initial source report, notification of physical/operational changes, and notification of the anticipated and actual startup dates. The initial source report is the only report that was required from existing sources. Owners or operators of vessels equipped with the specified controls are required to submit, along with the notifications required by the General Provisions, a report that describes the control equipment used to comply with the standard. Owners or operators of the affected facilities described must also make the following one-time-only reports: Notification of construction or modification; notification of the anticipated and actual dates of startup; initial compliance reports; notification of emission tests; report following an emission test; and notification of a monitoring system performance test. In addition, sources are required to maintain records of the occurrence and duration of any startup, shutdown, or malfunction in the operation of an affected facility, or any period during which the monitoring system is inoperative. These notifications, reports and records are required, in general, of all sources subject to any NESHAP.

Reporting requirements specific to benzene coke by-product recovery plants include a semiannual report by affected facilities. The semiannual reports include results of leak monitoring and performance tests. Respondents also are required to submit semiannual reports of measurements for sources subject to a no detectable emissions limit and semiannual reports summarizing the results of the leak detection and repair programs implemented at the plant. One report would incorporate information for both process equipment and fugitive sources.

Recordkeeping and reporting requirements specific to benzene coke by-product recovery plants for leak detection and repair of fugitive emission sources are those provisions specified under 40 CFR 61, Subpart V. The collections under Subpart V for equipment leaks were approved by OMB under the ICR at OMB Control Number 2060-0068. The only difference in the equipment leak requirements of Subpart V and this standard relates to the exhausters. Exhausters are subject to quarterly monitoring requirements. However, quarterly monitoring is not required if the exhauster is equipped with a seal system that has a barrier fluid, the exhauster seal is loaded and vented to a control device, or a leakless exhauster is used. Exhausters are subject to the same recordkeeping and reporting provisions as other equipment subject to Subpart V.

Burden Statement: In the previously approved ICR, the estimated number of respondents for this information collection was 40 with 76 responses per year. The annual industry reporting and recordkeeping burden for this collection of information was 7,083 hours. On the average, each respondent reported two times per year and 93 hours were spent preparing each response. There were no capital/startup costs or operation and maintenance costs associated with the previous ICR. It should be noted that the burden associated with the standard at 40 CFR Part 61, Subpart Y, will not be included in the forthcoming ICR, but has been consolidated with ICR 1854, OMB Control Number 2060-0443. This will reduce the overall burden for this ICR.

(4) NSPS for VOC Emissions from Petroleum Refinery Wastewater Systems (40 CFR Part 60, Subpart QQQ); EPA Preliminary ICR Number 1136.07; OMB Control Number 2060-0172; expiration date September 30, 2004.

Affected Entities: Entities potentially affected by this action are owners or operators of petroleum refinery wastewater systems.

Abstract: The NSPS for VOC Emissions From Petroleum Refinery Wastewater Systems (40 CFR Part 60, Subpart QQQ) were proposed on May 4, 1987, and promulgated on November 23, 1988. These standards apply to refinery wastewater systems: individual drain systems, oil-water separators, and aggregate facilities commencing construction, modification or reconstruction after the date of proposal.

Owners or operators of the affected facilities must make initial notification and maintain records of the occurrence and duration of any startup, shutdown, or malfunction in the operation of an affected facility, or any period during which the monitoring system is inoperative. The notifications, reports and records are required, in general, of all sources subject to NSPS standards.

Burden Statement: In the previously approved ICR, the estimated number of respondents for this information collection was 160 with 320 responses per year. The annual industry reporting and recordkeeping burden for this collection of information was 36,866 hours. On the average, each respondent reported two times per year and 115 hours were spent preparing each response. The responses were prepared semiannually. The annual reporting and recordkeeping cost burden was $57,000, of which the capital/startup costs were $1,000 and the operation and maintenance costs were $56,000.

(6) NESHAP for Beryllium (40 CFR Part 61, Subpart C); EPA Preliminary ICR Number 0193.08; OMB Control Number 2060-0092; expiration date September 30, 2004.

Affected Entities: Entities potentially affected by this action are extraction plants, ceramic plants, foundries, incinerators, and propellant plants which process beryllium ore, beryllium, beryllium oxide, beryllium alloys, or beryllium-containing waste, also machine shops which process beryllium, beryllium oxides, or any alloy when such alloy contains more than five percent beryllium by weight.

Abstract: The NESHAP for Beryllium was proposed on December 7, 1971 (36 FR 23939) and promulgated on April 6, 1973 (38 FR 8826). The monitoring, recordkeeping, and reporting requirements outlined in the standard are similar to those required for other NESHAP standards.

Owners or operators of the affected facilities are required to submit one-time-only notifications including: notification of any physical or operational change to an existing facility which may increase the regulated pollutant emission rate, notification of the initial performance test, including information necessary to determine the conditions of the performance test, and performance test measurements and results.

Owners or operators are also required to maintain records of the occurrence and duration of any startup, shutdown, or malfunction in the operation of an affected facility, or any period during which the monitoring system is inoperative. These notifications, reports, and records are essential in determining compliance, and are required of all sources subject to NESHAP.

Specifically, most facilities subject to 40 CFR Part 61, Subpart C will meet the standard by means of a one-time-only initial stack test. However, those existing facilities that have elected to comply with an alternative ambient air quality limit are required to operate a continuous monitor in the vicinity of the affected facility. For those complying by ambient monitoring, a monthly report of all measured concentrations shall be submitted to the Administrator. All sources subject to this standard are required to submit monthly reports and on-occasion.

Burden Statement: In the most previously approved ICR, the estimated number of respondents for this information collection was 33 with 166 responses per year, and the annual industry reporting and recordkeeping burden for this collection of information was 2,232 hours. On the average, each respondent reported five times per year and spent 13.4 hours preparing each response.

The total annualized cost over its expected useful life is approximately $35,000, which is comprised of zero capital/startup costs and operation and maintenance costs of approximately $35,000. It is estimated that no additional sources are expected to become subject to the standard over the next three years.

(7) NESHAP for Primary Aluminum Reduction Plants (40 CFR Part 63, Subpart LL); EPA Preliminary ICR Number 1767.04; OMB Control Number 2060-0360; expiration date September 30, 2004.

Affected Entities: Entities potentially affected by this action are new or existing potlines, paste production plants, or anode bake furnaces associated with primary aluminum production and located at a major source, and for each new pitch storage tank associated with a primary aluminum reduction plant.

Abstract: The NESHAP for Primary Aluminum Reduction Plants (40 CFR Part 63, Subpart LL), was proposed on September 26, 1996, and promulgated on October 7, 1997.

In general, all NESHAP standards require initial notifications, performance tests, and periodic reports according to the general provisions specified in 40 CFR Part 63, Subpart A. Owners or operators are also required to maintain records of the occurrence and duration of any startup, shutdown, or malfunction in the operation of an affected facility, or any period during which the monitoring system is inoperative. Section 63.850 of the final standard includes these provisions, except that the existing performance specifications for continuous emission monitors (CEMs) are not applicable to hydrogen fluoride CEMs because such specifications have not yet been developed for that device. In addition, all sources are required to submit quarterly and semiannual reports.

Burden Statement: In the most previously approved ICR, the estimated number of respondents for the information collection was 23 with 50 responses per year, and the annual industry reporting and recordkeeping burden for this collection of information was 121,277 hours. On the average, each respondent reported two times per year and spent 2,416 hours preparing each response.

The total annualized cost over its expected useful life is approximately $117,000, which is comprised of zero capital/startup costs and operation and maintenance costs of approximately $117,000. It is estimated that no new sources per year will become subject to the standard, but one existing source per year will add a new affected facility.

(8) NESHAP for Epoxy Resin and Non-Nylon Polyamide Production (40 CFR Part 63, Subpart W); EPA Preliminary ICR Number 1681.05; OMB Control Number 2060-0290; expiration date September 30, 2004.

Affected Entities: Entities potentially affected by this action are all existing, new, and reconstructed manufacturers of basic liquid epoxy resins and epichlorohydrin-modified non-nylon polyamide resins, also known as wet strength resins.

Abstract: The NESHAP for Epoxy Resin and Non-Nylon Polyamide Production (40 CFR Part 63, Subpart W), was promulgated on March 8, 1995, and amended on May 8, 2000.

In general, all NESHAP standards require initial notifications, performance tests, and periodic reports, and owners or operators are also required to maintain records of the occurrence and duration of any startup, shutdown, or malfunction in the operation of an affected facility, or any period during which the monitoring system is inoperative.

Burden Statement: In the most previously approved ICR, the estimated number of respondents for this information collection was 13 with 29 responses per year. The annual industry reporting and recordkeeping burden for this collection of information was 4,525 hours. On the average, each respondent reported two times per year and spent 156 hours preparing each response.

The total annualized cost over its expected useful life is approximately $9,000, which is comprised of zero capital/startup costs and operation and maintenance costs of approximately $9,000. It is estimated that no additional sources will become subject to the standard over the next three years.

(9) NSPS for Sewage Sludge Treatment Plants (40 CFR Part 60, Subpart O); EPA Preliminary ICR Number 1063.09; OMB Control Number 2060-0035; expiration date September 30, 2004.

Affected Entities: Entities potentially affected by this action are each incinerator that combusts wastes containing more than 10 percent sewage sludge (dry basis) produced by municipal sewage treatment plants, or each incinerator which charges more than 1000 kg (2205 lb.) per day municipal sewage sludge (dry basis).

Abstract: The NSPS for Sewage Treatment Plants (40 CFR Part 60, Subpart O) were promulgated on February 28, 1974, and amended October 6, 1975, November 10, 1977, October 6, 1988, and October 17, 2000. The monitoring, recordkeeping, and reporting requirements outlined in the standards are mandatory for compliance with 40 CFR Part 60, NSPS for sewage sludge treatment plant incinerators.

The control of emissions of particulate matter from sewage treatment plant incinerators requires not only the installation of properly designed equipment, but also the operation and maintenance of that equipment.

These standards require initial notification reports with respect to construction, modification, reconstruction, startups, shutdowns, and malfunctions. The standards also require reports on initial performance tests and semiannual reports of excess emissions are also required.

Burden Statement: In the most previously approved ICR, the estimated number of respondents for this information collection was 154 with 294 responses per year. The annual industry reporting and recordkeeping burden for this collection of information was 9,089 hours. On the average, each respondent reported two times per year and spent 31 hours preparing each response.

The total annualized cost over its expected useful life are approximately $5,845,000. The total annualized capital/startup cost is $700,000, and the annualized operation and maintenance costs are approximately $5,145,000.

Dated: October 20, 2003.
Michael M. Stahl,
Director, Office of Compliance.

[FR Doc. 03-27555 Filed 10-31-03; 8:45 am]

BILLING CODE 6560-50-P